DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 03-041. Applicant: University of Michigan, NERS, 2355 Bonisteel Boulevard, Ann Arbor, MI 48109. Instrument: (2) each CdZnTe Conplanar Grad Radiation Detectors. Manufacturer: Baltic Scientific Instruments, Latvia. Intended Use: The instruments are intended to be used to study gamma rays and to investigate high energy photons ranging from 10 keV to 100 MeV in energy to achieve the best possible energy resolution. Technology development will eventually be applied by the National Aeronautics and Space Administration for space exploration purposes such as soil analysis of the surface of Mars. Application accepted by Commissioner of Customs: August 5, 2003.

Docket Number: 03-042. Applicant: University of California, Lawrence Berkeley National Laboratory, 1 Cyclotron Road, Berkeley, CA 94720. Instrument: Electron Microscope, Model Tecnai G² 20 S-TWIN. Manufacturer: FEI Company, The Netherlands. Intended Use: The instrument is intended to be used to study and characterize inorganic nanocrystals with the research objective to identify new forms of nanocrystals and their synthetic routes for the advancement of various scientific applications such as use in solar cells. Application accepted by Commissioner of Customs: August 5, 2003.

Docket Number: 03-043. Applicant: University of Chicago, Department of Pediatrics, 5839 South Maryland Avenue, MC 5053, Chicago, IL 60637-1470. Instrument: Microscope Accessories. Manufacturer: Luigs & Neumann GmbH, Germany. Intended Use: The accessories are intended to be used to study gonadotropin-releasing hormone (GnRH) neurons in brain slices of transgenic mice to determine the electrical activity required for GnRH secretory pulses, which are essential for pubertal development and reproduction. Application accepted by Commissioner of Customs: August 20, 2003.

Docket Number: 03-044. Applicant: University of California, Los Alamos National Laboratory, PO Box 1663, Los Alamos, NM 87545. Instrument: Electron Microscope, Model JEM-2010 and Accessories. Manufacturer: JEOL Ltd., Japan. Intended Use: The instrument is intended to be used to study monodisperse semiconductor nanocrystals such as CdSe, PbSe and ZnSe, as well as metal nanocrystals such as Co and AuCo. Thin films of nitrides and oxides of Gallium and Aluminum grown by epitaxial techniques will also be investigated. Experiments will be conducted to determine the size, morphology and structure to provide feedback to the crystal growers so that the correct chemistry is achieved in producing the desired nanocrystals and to provide data to the spectroscopists to model the light emission of the nanocrystals. Application accepted by Commissioner of Customs: August 20, 2003.

Docket Number: 03-045. Applicant: Indiana University School of Medicine, Department of Anatomy and Cell Biology, 635 Barnhill Drive, Room 5065, Indianapolis, IN 46202. Instrument: Electron Microscope, Model Tecnai G ² 12 BioTWIN. Manufacturer: FEI Company, The Netherlands. Intended Use: The instrument is intended to be used for research in the evaluation of the cellular and subcellular alteration associated with the development of kidney stones, ischemic changes in the development of acute renal failure, ischemic changes in the brain, the mechanics associated with the infection of the cells by the HIV virus, the dynamic cellular and subcellular changes associated with the contraction of smooth muscle cells and the mechanism associated with the incorporation of cardiogenic stem cells into the damaged heart. Application accepted by Commissioner of Customs: August 20, 2003.

Gerald A. Zerdy,
Program Manager, Statutory Import Programs Staff.

[FR Doc. 03-23192 Filed 9-10-03; 8:45 am]

BILLING CODE 3510-DS-P